DEPARTMENT OF THE INTERIOR

National Park Service

AGENCY: National Park Service, Interior.

ACTION: Notice of availability of the Draft Site Progress Report to the World Heritage Committee, Yellowstone National Park.

SUMMARY: Pursuant to the Decision adopted by the 27th Session of the World Heritage Committee (Document: WHC-03/27.COM/7A.12) accepted by the United States Government, the National Park Service (NPS) announces the publication for comment of a Draft Site Progress Report to the World Heritage Committee for Yellowstone National Park, Wyoming, Idaho and Montana.

DATES: There will be a 30-day public review period for comments on this document. Comments must be received on or before February 7, 2005.

ADDRESSES: The Draft Site Report is included in the supplementary information section of this notice. Copies are also available by writing to Suzanne Lewis, Superintendent, Yellowstone National Park, Post Office Box 168, Yellowstone National Park, WY 82190-0168; by telephoning (307) 344-2002; by sending an e-mail message to yell_world_heritage@nps.gov; or by picking up a copy in person at the park's headquarters in Mammoth Hot Springs, Wyoming 82190. The document is also posted on the park's Web site at http://www.nps.gov/yell/publications/worldheritage/.

FOR FURTHER INFORMATION CONTACT: Suzanne Lewis, Superintendent, Yellowstone National Park, Post Office Box 168, Yellowstone National Park, WY 82190-0168, or by calling (307) 344-2002.

SUPPLEMENTARY INFORMATION:

A. The World Heritage Committee Decision

In 1995, the World Heritage Committee, with the agreement of the United States, placed Yellowstone National Park, a designated World Heritage site, on its List of World Heritage in Danger in response to specific threats it identified to the outstanding universal value of the park. At its 27th Session in July 2003, the Committee decided to remove the park from the Danger List. The decision (27 COM 7A.12) is conveyed below:

The World Heritage Committee,

1. Notes the detailed report by the State Party provided on April 17, 2003;

2. Urges the State Party to continue to report on Yellowstone's snowmobile phase-out and other efforts to ensure that winter travel facilities respect the protection of the Park, its visitors, and its wildlife;

3. Recommends that the State Party continue its efforts in ensuring the McLaren Mine tailings are not contaminating the property;

4. Recognizes the progress made in addressing all the key issues that led to Danger Listing of the property in 1995 and considers that the reasons for retaining the property on this List no longer exist;

5. Congratulates the State Party for the considerable efforts and suggests to use this as a model case for promoting success stories of the World Heritage Convention and for international co-operation with other States Parties facing similar problems in World Heritage properties;

6. Decides to remove the property from the List of World Heritage in Danger.

7. Invites the State Party:

(a) to continue its commitment to address the issues that have concerned the Committee in the past;

(b) to provide to the World Heritage Centre by 1 February 2005, existing recovery plans setting out targets and indicators for the 6 remaining long-term management issues (mining activities outside the park, threats to bison, threats to cutthroat trout, water quality issues, road impacts, visitor use impacts);

(c) to continue to report to the Committee on the condition of the original threats and the progress made towards resolving these issues until such time that the Committee decides that the reports are no longer needed. These reports shall include public input, including—but not limited to—independent experts, NGOs, and other key stakeholders.

B. The NPS's Draft Site Report

In accordance with the Committee's request included in its decision to remove the park from the Danger List, the NPS has prepared a Site Report to continue to provide information to the World Heritage Committee on the original threats and the progress made towards resolving these issues. The Site Report provides a synopsis of the current status of the six specific threats outlined in 7(b) of the Committee's decision. The full text of the draft Site Report is as follows.

Yellowstone National Park Report to the World Heritage Committee; Status of Key Issues, January 2005

Introduction

Yellowstone National Park (Yellowstone) was inscribed as a World Heritage Site in 1978. Yellowstone National Park was inscribed as a World Heritage Site in Danger on December 5, 1995. In their report, the World Heritage Committee (WHC) cited specific threats and dangers that were already affecting, were beginning to affect, or had potential to seriously derogate the outstanding universal value for which Yellowstone was established as the nation's first national park, and one of the first World Heritage Sites. In July 2003, the WHC congratulated the park for “the considerable efforts” that went into “the progress made in addressing all the key issues that led to Danger Listing of the site * * *” and considers “* * *the reasons for retaining the site on this List no longer exist.” As a consequence, Yellowstone National Park was removed from the list of World Heritage Sites in Danger.

However, the WHC invited Yellowstone to (1) continue its commitment to address the original issues; (2) provide the WHC recovery plans regarding those issues; (3) continue to provide progress reports to WHC on the original threats and to provide opportunities for the public and interested NGOs to comment on the progress reports.

In keeping with the WHC's request, this document is the second progress report, and includes plans and actions currently planned or underway, that specifically seek to redress the 1995 threats and dangers to the outstanding universal value.

See: http://www.nps.gov/yell/index.htm and http://www.nps.gov/yell/publications/worldheritage/.

In all resource cases described below, Yellowstone is guided first by the relevant statutory laws of the United States emphasizing parks such as the Yellowstone Organic Act (16 U.S.C. 21-22), NPS Organic Act (16 U.S.C. 1 et seq.), General Authorities Act (16 U.S.C. 1a-1), National Parks and Recreation Act (16 U.S.C. 1a-7), the “Redwood Act” (16 U.S.C. 1a-1), and the National Parks Omnibus Management Act (16 U.S.C. 5901 et seq.). In addition, other national statutes in part dwell on parks such as the Clean Air Act (42 U.S.C. 7401 et seq.), Federal Water Pollution Control Act (33 U.S.C. 1251 et seq.), Wilderness Act (16 U.S.C. 1131 et seq.), National Environmental Policy Act (42 U.S.C. 4332 et seq.), Endangered Species Act (7 U.S.C. 136 as amended), Geothermal Steam Act (30 U.S.C. 1001 et seq.), Antiquities Act (16 U.S.C. 431 et seq.), Historic Sites Act (49 Stat. 666), National Historic Preservation Act (80 Stat. 915 as amended), Archaeological and Historic Preservation Act (88 Stat. 174), are examples among many others.

Any of these statutes can be retrieved from: http://data2.itc.nps.gov/npspolicy/getlaws.cfm.

In many instances, Presidential Executive Orders and “Rules,” or Regulatory Law, are more specific and focused than statutes and serve as detailed operating principles for the national parks.

For Executive Orders see: www.gpoaccess.gov/fr/index.html.

For the Code of Federal Regulations see:

http://data2.itc.nps.gov/npspolicy/getlaws.cfm.

www.gpoaccess.gov.

Finally, relevant governance for National Park Service (NPS) activities that are the most detailed are the NPS Management Policies and Director's Orders that are available and can be readily located at:

http://data2.itc.nps.gov/npspolicy/getlaws.cfm.

Progress on 1995 Threats

Mining Activities

Threat in 1995: The New World Mine was a major Crown Butte Mines, Inc. proposal to reopen an older mining area on patented and U.S. Forest Service lands to new gold and silver harvest. The site was adjacent to the Absaroka-Beartooth Wilderness area (Gallatin National Forest) and Yellowstone National Park and was perceived to be a major threat to the resources of the National Forest Wilderness and Yellowstone National Park.

Outcome: The U.S. government and Crown Butte Mines, Inc. signed an agreement in 1996 to refrain from mining these lands, and the Congress appropriated $65 million for the acquisition of lands and interests, including cleanup of toxic overburden and tailings left over from a century of previous mining activity.

Status: The new mining proposal was shelved and most of the property was transferred to public domain. Cleanup of toxic materials from past mining started in 2000 and is expected to take 7 years, but post-project maintenance will be funded in perpetuity. One such site, the McLaren mine tailings, was left out of the cleanup agreement and, while the tailings (which are outside the Yellowstone) have stabilized and water quality inside the park has improved, the Yellowstone continues efforts to have them removed and the site restored.

Plans/Actions: See:

http://www.nps.gov/yell/stateofthepark.htm.

http://www.fs.fed.us/r1/gallatin.

http://www.maximtechnologies.com/newworld.

Threats to Bison

Threat in 1995: Yellowstone bison, some of which are infected with Brucella abortus, the agent that causes the disease Brucellosis, occasionally roam outside park boundaries. These bison may potentially transmit Brucella to livestock grazing outside the park which could jeopardize the “Brucellosis Free” status of states bordering Yellowstone. As such, the states view the presence of Brucella in park wildlife as a significant economic threat to the livestock industry. Occasionally, animals migrate out of the park and some are destroyed, especially when bison population numbers are high and the winters are severe.

Outcome: In 2000, Yellowstone National Park, State of Montana, U.S. Forest Service, USDA Plant and Animal Health Inspection Service cosigned a joint bison management plan that agreed to conserve bison populations yet manage the risk of transmission from bison to cattle within the State of Montana. This is a long-term plan that should manage risks in the short- and medium-term, but set the stage for future discussions about eradication of the disease. It is also an incremental plan that becomes more wildlife-friendly and yet lowers transmission risk to cattle with each incremental success.

Status: This carefully crafted consensus-based plan has been successfully implemented for 4 years. While many people in the conservation community do not support the plan, in the last four years the core Yellowstone bison population has been sustained at or above ~3000 animals, which is considered a high population level. In addition, the plan addresses each of the major issues regarding the risk of brucellosis transmission from bison to livestock. For the first time ever, non-infected bison captured at the boundary in the winter of 2003-2004, were vaccinated against the disease and released back into Yellowstone instead of being destroyed. An Environmental Impact Study concerning the remote vaccination of herds within Yellowstone was officially begun in 2004, and includes substantial regional public involvement. Discussions and research continue to consider ways to eventually eliminate brucellosis from wildlife in the Greater Yellowstone Area while maintaining wild and free ranging wildlife herds.

Plans/Actions: See:

http://www.nps.gov/yell/technical/planning/index.htm.

http://www.nps.gov/yell/publications/index.htm.

http://www.nps.gov/yell/technical/planning/bison/index.htm.

Threats to Cutthroat Trout

Threats in 1995: In 1994, voracious, predatory, non-native lake trout were discovered in Yellowstone Lake threatening the existence of the rare, endemic Yellowstone cutthroat trout, plus 42 other native birds and mammals that more or less depend on cutthroat trout for survival. It could also potentially destroy a sport fishery that once had a $36 million annual value.

Outcome: Fish experts have concluded that the risk of functional extinction of the native trout was real, substantial, and urgent, but that no technology is known to completely eradicate lake trout from the lake. The best that could be hoped for was long-term suppression of lake trout, through the annual deployment of “industrial-strength gillnetting.” This partial solution was implemented by NPS beginning in 1995, targeting the lake trout that are thought to have been in the lake and reproducing for about 20 years. A no-limit, no-live-release regulation on lake trout for sport anglers was also put into effect.

Status: The gillnetting fishing effort has increased each year and has resulted in the destruction of over 100,000 adult and juvenile lake trout. Catch-per-unit-effort (CPUE) has declined considerably from the high in 1998 and has generally continued to decline annually since that time, which suggests the program has measurably reduced the population in 2003 and 2004, and if the CPUE continues to decline it also signals an indication that the population is collapsing.

Plans/Actions: In addition to annual refinements in gillnetting technology to improve take-efficiency, nighttime electrofishing over lake trout spawning beds was attempted for the first time with encouraging success, perhaps opening a new, independent method of efficient harvest. Discussions on methods of destroying fertilized eggs and larval fish in lake bottom rubble are at an early stage of discussion and may lead to additional measures of control.

See:

http://www.nps.gov/yell/stateofthepark.htm.

http://www.nps.gov/yell/publications/index.htm.

http://www.nps.gov/yell/publications/index.htm.

http://www.nps.gov/yell/planvisit/todo/fishing/fishreports.htm.

http://www.nps.gov/yell/tours/thismonth/aug2004/fish/index.htm (video clips).

Water Quality Issues

Threats in 1995: Yellowstone National Park hosts almost 5 million human use days annually. Old, outdated waste treatment plants, lift stations, and underground lines, and older single wall fuel tanks were causing an unacceptable level of accidental overflows, ruptures, and spills affecting soils, ground and surface waters degrading localized wild lands. In 1995, the failing wastewater treatment plant at Norris Village was closed upon recommendations of the U.S. Public Health Service.

Outcome: In the past five years Congress has appropriated $22 million for water and sewage projects and special monies to replace all single wall fuel tanks. These projects have reduced the backlog in the arena by approximately 30%.

Status: All of the park's fuel storage tanks have been replaced with new double-walled liquid tanks or replaced with more environmentally friendly propane gas tanks. A new wastewater plant has been constructed at Old Faithful, the closed Norris system is being replaced now, and the Madison system is being designed. Older or problematic lift stations, lines, grease traps have been replaced at many locations in the park. A backlog of deteriorated smaller wastewater facilities remain and aged (pre-1966) distribution systems in Yellowstone and will be replaced or updated in the future as funds are available.

Plans/Actions: See:

http://www.nps.gov/yell/stateofthepark.htm.

http://www.nps.gov/yell/publications/pdfs/strategicplan.pdf.

http://www.nps.gov/yell/technical/planning/index.htm.

Road Impacts

Threats in 1995: Yellowstone's road system was never designed for the volume, size, and weight of vehicles that travel through the park today. The park maintains 478 miles of roads of which 310 are paved and considered primary roads for the public. The remaining 156 miles are paved or gravel secondary roads for service and/or light public use. Road engineers, maintenance workers, and virtually all the visiting public considered the condition of the road system in 1995 deplorable.

Outcome: In partnership with the Federal Highway Administration, Yellowstone has an integrated, methodical and long-term program to improve the fabric of the park's roads and lessen unsafe conditions and unsatisfactory experiences for visitors, and prevention of resource degradation. An annual funded program of complete bed and/or surface replacement is expected to continue through 2017 although the Transportation Bill that has funded reconstruction expired in 2003 and a new Bill has not yet been authorized.

Status: Much has been accomplished since 1995 upgrading the existing road system, but it is a slow process because of the short summer construction season and the reality that reconstruction must be reasonably compatible with summer visitors. As noted above, the current program will be carried out annually through the year 2017, if the Transportation Bill is reauthorized, after-which the structural deficiencies should be corrected. The park also issued its Business Plan in 2003, which is its statement of operational needs for the next 5 years. In that plan, deficiencies in cyclical maintenance of roads are articulated and, if the park has authorized cyclical maintenance funding, this would keep the new, rebuilt roads in top, non-deteriorating condition.

Plans/Actions: See:

http://www.nps.gov/yell/stateofthepark.htm.

http://www.nps.gov/yell/businessplan/index.htm.

http://www.nps.gov/yell/technical/planning/index.htm.

Visitor Use Impacts

Threats in 1995: Increasing visitor pressures on the natural and cultural resources of the park have been of concern to managers for many years. Recently, the park has hosted about 3 million visitors per year, which represents roughly 5 million visitor-use days annually. The quality of a visitor's Yellowstone experience in terms of sights, sounds and smells has also been extensively debated. Concerns have been raised most strongly regarding winter use in the park, although peak summer season crowding has been an issue for some. The number of visitors in the park, whether summer or winter, is a contentious subject with the U.S. public, who are divided among those who believe the park is overused, or that use is about right, or that the park could handle more visitors. The NPS Mission is to conserve the natural and cultural resources and to provide for the public enjoyment of the same in such manner as will leave them unimpaired for future generations.

Outcome: Winter use has been very controversial starting with a decision in 2000 to ban snowmobiles and replace them with snow coaches. Litigation and decisions by two different Federal judges have affected the decisionmaking process. Most recently, the 2000 decision was vacated by a Federal judge. The NPS has just published a final rule for a Temporary Winter Use Plan that substantially reduces the daily maximum number of snowmobiles from historic highs (720 compared to 1,650 per peak day), requires the use of best available technology, which will reduce emissions (by 90%) and noise, and require all travel groups to be accompanied by guide to reduce wildlife conflicts.

Status: The NPS believes the most recent decision addresses winter use-related issues and the park's goals of protecting park resources, protecting employee and visitor health and safety, and improving the quality of the visitor experience. The NPS also believes the final rule for a Temporary Winter Use Plan honors the rulings of both Federal judges and is hopeful that legal challenges will not disrupt the implementation of the interim plan. A provision in the recently signed appropriations law guarantees that the interim plan will be in effect for at least the 2004-05 winter season. The NPS will be developing a new Environmental Impact Statement to address the long term winter use issue and that process is expected to take several years to complete.

Spring, summer, and fall visitation continues to be below the high level measured in 1995, and visitor growth appears to have diminished as an issue in the eyes of many. Separately, the park has focused on development of partnerships to encourage more sustainability in visitor use. Several partnerships encourage use of alternate fuels for transportation and facilities or highlight hybrid automobiles for transportation. Another partnership is working to reduce solid waste, foster recycling, and grow into large-scale composting of organic materials. These partnerships should help the park and adjacent communities foster a region-wide approach serving visitors more efficiently and with less resource consumption in the future.

Plans/Actions: See:

http://www.nps.gov/yell/stateofthepark.htm.

http://www.nps.gov/yell/technical/planning/winteruse/plan/index.htm.

C. Public Comment Solicitation

Persons wishing to comment may do so by any one of several methods. They may mail comments to Suzanne Lewis, Superintendent, Yellowstone National Park, PO Box 168, Yellowstone National Park, WY 82190-0168. They also may comment via e-mail to yell_world_heritage@nps.gov (include name and return address in the e-mail message). Finally, they may hand-deliver comments to park headquarters in Mammoth Hot Springs, Wyoming 82190.

The NPS practice is to make comments, including names and home addresses of respondents, available for public review during regular business hours. Individual respondents may request we withhold their home address from the record, which we will honor to the extent allowable by law. There also may be circumstances in which we would withhold from the record a respondent's identify, as allowable by law. If you wish us to withhold your name and/or address, you must state this prominently at the beginning of your comment. However, we will not consider anonymous comments. We will make all submissions from organizations or businesses, and from individuals identifying themselves as representatives or officials of organizations or businesses, available for public inspection in their entirety.

Dated: January 3, 2005.
Paul Hoffman,
Deputy Assistant Secretary, Fish and Wildlife and Parks.

[FR Doc. 05-351 Filed 1-6-05; 8:45 am]

BILLING CODE 4312-52-P